DEPARTMENT OF COMMERCE

International Trade Administration

[A-475-811; A-588-831]

Grain-Oriented Electrical Steel From Italy and Japan; Final Results of Expedited Sunset Reviews of Antidumping Duty Orders

AGENCY: Import Administration, International Trade Administration, Department of Commerce.

ACTION: Notice of final results of expedited sunset reviews: grain-oriented electrical steel from Italy and Japan.

SUMMARY: On December 1, 1999, the Department of Commerce (“the Department”) initiated sunset reviews of the antidumping duty orders on grain-oriented electrical steel (“GOES”) from Italy and Japan (64 FR 67247) pursuant to section 751(c) of the Tariff Act of 1930, as amended (“the Act”). On the basis of notices of intent to participate and adequate substantive responses filed on behalf of domestic interested parties and inadequate response from respondent interested parties (in these cases, no response), the Department determined to conduct expedited reviews. As a result of these reviews, the Department finds that revocation of the antidumping duty orders would likely lead to continuation or recurrence of dumping at the levels indicated in the Final Results of Reviews section of this notice.

EFFECTIVE DATE: July 5, 2000.

FOR FURTHER INFORMATION CONTACT: Kathryn B. McCormick or James Maeder, Office of Policy for Import Administration, International Trade Administration, U.S. Department of Commerce, 14th Street and Constitution Avenue, NW, Washington, DC 20230; telephone: (202) 482-1930 or (202) 482-3330, respectively.

SUPPLEMENTARY INFORMATION:

Statute and Regulations

Unless otherwise indicated, all citations to the Act are references to the provisions effective January 1, 1995, the effective date of the amendments made to the Act by the Uruguay Round Agreements Act (“URAA”). In addition, unless otherwise indicated, all citations to the Department regulations are to 19 CFR Part 351 (1999). Guidance on methodological or analytical issues relevant to the Department's conduct of sunset reviews is set forth in the Department's Policy Bulletin 98.3—Policies Regarding the Conduct of Five-year (“Sunset”) Reviews of Antidumping and Countervailing Duty Orders; Policy Bulletin, 63 FR 18871 (April 16, 1998) (“Sunset Policy Bulletin”).

Scope of Reviews

The scope of these reviews includes GOES, which is a flat-rolled alloy steel product containing by weight at least 0.6 percent of silicon, not more than 0.08 percent of carbon, not more than 1.0 percent of aluminum, and no other element in an amount that would give the steel the characteristics of another alloy steel, of a thickness of no more than 0.56 millimeters, in coils of any width, or in straight lengths which are of a width measuring at least 10 times the thickness, as currently classifiable in the Harmonized Tariff Schedule of the United States (“HTS”) under item numbers 7225.10.0030, 7226.10.1030, 7226.10.5015, and 7226.10.5056. Although the HTS subheadings are provided for convenience and customs purposes, our written descriptions of the scope of these proceedings are dispositive.

Background

On December 1, 1999, the Department initiated the sunset reviews of the antidumping duty orders on GOES from Italy and Japan (64 FR 67247), pursuant to section 751(c) of the Act. The Department received a notice of intent to participate in these cases on behalf of Allegheny Ludlum Corporation (“Allegheny Ludlum”), AK Steel Corporation (“AK Steel”), Butler Armco Independent Union, the United Steelworkers of America AFL-CIO/CLC, and the Zanesville Armco Independent Union (collectively, “domestic interested parties”), within the applicable deadline (December 16, 1999) specified in 19 CFR 351.218(d)(1)(i). Additionally, on December 16, 1999, Acciai Speciali Terni S.p.A. and Acciai Speciali Terni USA Inc. (together, “AST”) submitted an entry of appearance in the Italian proceeding and, pursuant to 19 CFR 351.305(b), an application for access to business proprietary information under administrative protect order.

Allegheny Ludlum and AK Steel claimed interested-party status under section 771(9)(C) of the Act, as U.S. producers of a domestic like product. The unions listed above are interested parties, pursuant to 771(9)(D), because they are certified or recognized unions or groups of workers representative of the industry engaged in the manufacture, production, or wholesale in the United States of the domestic like product.

Domestic interested parties state that Allegheney Ludlum, Armco Inc. (“Armco”), United Steel Workers of America, Butler Armco Independent Union, and Zanesville Armco Independent Union were the petitioners in the initial investigation of GOES from Italy and participated in the only completed administrative review of the Italian order (see January 3, 2000, substantive response of domestic interested parties at 5). Armco was not a petitioner in the case concerning GOES from Japan because Armco had certain technical relationships with a Japanese producer of GOES at the time that it wanted to preserve. However, the relationship terminated prior to AK Steel's acquisition of Armco, on September 30, 1999, when it assumed control of Armco's production of GOES. Id. Accordingly, AK Steel, as the successor of Armco, has replaced Armco as a domestic interested party for purposes of these sunset reviews and all other administrative reviews. Id.

On January 3, 2000, we received a complete substantive response from domestic interested parties, within the 30-day deadline specified in the Sunset Regulations under 19 CFR 351.218(d)(3)(i). Although we received an entry of appearance from AST in the Italian review, AST did not submit a substantive response. Therefore, without a substantive response from respondent interested parties in the Italian and Japanese reviews, the Department, pursuant to section 751(c)(3)(B) of the Act and 19 CFR 351.218(e)(1)(ii)(C)(2), determined to conduct expedited, 120-day reviews of these orders. On February 9, 2000, we received domestic interested parties' comments in support of the Department's decision to conduct expedited reviews of the antidumping duty orders on GOES from Italy and Japan (see February 9, 2000, domestic interested parties' comments on adequacy at 3).

In accordance with section 751(c)(5)(C)(v) of the Act, the Department may treat a review as extraordinarily complicated if it is a review of a transition order (i.e., an order in effect on January 1, 1995). These reviews concern transition orders within the meaning of section 751(c)(6)(C)(ii) of the Act. Accordingly, on April 6, 2000, the Department determined that the sunset reviews of GOES from Italy and Japan are extraordinarily complicated, and extended the time limit for completion of the final results of these reviews until not later than June 28, 2000 (65 FR 18058), in accordance with section 751(c)(5)(B) of the Act.

Analysis of Comments Received

All issues raised in the substantive responses by parties to these sunset reviews are addressed in the Issues and Decision Memorandum (“Decision Memo”) from Jeffrey A. May, Director, Office of Policy, Import Administration, to Troy H. Cribb, Acting Assistant Secretary for Import Administration, dated June 28, 2000, which is hereby adopted by this notice. The issues discussed in the Decision Memo include the likelihood of continuation or recurrence of dumping and the magnitude of the margin likely to prevail were these orders revoked. Parties can find a complete discussion of all issues raised in these reviews and the corresponding recommendations in this public memorandum which is on file in the Central Records Unit, room B-099, of the main Commerce building.

In addition, a complete version of the Decision Memo can be accessed directly on the Web at www.ita.doc.gov/import_admin/records/frn. The paper copy and electronic version of the Decision Memo are identical in content.

Final Results of Reviews

As a result of these reviews, we determine that revocation of the antidumping duty orders on GOES from Italy and Japan would be likely to lead to continuation or recurrence of dumping at the following percentage weighted-average margins:

Manufacturer/exporters | Margin (percent)
Italy:
ILVA S.p.A | 60.79
Acciai Speciali Terni, S.r.I | 60.79
All Others | 60.79
Japan:
Kawasaki Steel Corporation | 31.08
Nippon Steel Corporation | 31.08
All Others | 31.08

This notice also serves as the only reminder to parties subject to APO of their responsibility concerning the return or destruction of proprietary information disclosed under APO in accordance with 19 CFR 351.305 of the Department's regulations. Timely notification of the return or destruction of APO materials or conversion to judicial protective order is hereby requested. Failure to comply with the regulations and terms of an APO is a violation which is subject to sanction.

These reviews and notice are in accordance with sections 751(c), 752, and 777(i)(1) of the Act.

Dated: June 22, 2000.
Troy H. Cribb,
Acting Assistant Secretary for Import Administration.

[FR Doc. 00-16951 Filed 7-3-00; 8:45 am]

BILLING CODE 3510-DS-P